DEPARTMENT OF TRANSPORTATION

Surface Transportation Board

[STB Docket No. AB-859 (Sub-No. 1X) and STB Docket No. AB-290 (Sub-No. 245X)]

Pennsylvania Lines LLC—Abandonment Exemption—in Northampton County, PA, and Norfolk Southern Railway Company—Discontinuance of Service Exemption—in Northampton County, PA

Pennsylvania Lines LLC (PRR) and Norfolk Southern Railway Company (NSR) (collectively, petitioners) have jointly filed a notice of exemption under 49 CFR Part 1152, Subpart F—Exempt Abandonments and Discontinuances of Service for PRR to abandon, and NSR to discontinue service over, a 3.7-mile line of railroad between milepost EK-53.0 at Hellertown and milepost EK-56.7 at Bethlehem, in Northampton, PA. The line traverses United States Postal Service Zip Codes 18015, 18016, 18017, 18018, 18020, 18025 and 18055.

PRR and NSR have certified that: (1) No local traffic has moved over the line for at least 2 years; (2) no overhead traffic has moved over the line for at least 2 years and overhead traffic, if there were any, could be rerouted over other lines; (3) no formal complaint filed by a user of rail service on the line (or by a state or local government entity acting on behalf of such user) regarding cessation of service over the line either is pending with the Surface Transportation Board (Board) or with any U.S. District Court or has been decided in favor of complainant within the 2-year period; and (4) the requirements at 49 CFR 1105.7 (environmental reports), 49 CFR 1105.8 (historic reports), 49 CFR 1105.11 (transmittal letter), 49 CFR 1105.12 (newspaper publication), and 49 CFR 1152.50(d)(1) (notice to governmental agencies) have been met.

As a condition to these exemptions, any employee adversely affected by the abandonment or discontinuance shall be protected under Oregon Short Line R. Co.—Abandonment—Goshen, 360 I.C.C. 91 (1979). To address whether this condition adequately protects affected employees, a petition for partial revocation under 49 U.S.C. 10502(d) must be filed. Provided no formal expression of intent to file an offer of financial assistance (OFA) has been received, these exemptions will be effective on March 11, 2004, unless stayed pending reconsideration. Petitions to stay that do not involve environmental issues,¹ formal expressions of intent to file an OFA under 49 CFR 1152.27(c)(2),² and trail use/rail banking requests under 49 CFR 1152.29 must be filed by February 20, 2004. Petitions to reopen or requests for public use conditions under 49 CFR 1152.28 must be filed by March 1, 2004, with: Surface Transportation Board, 1925 K Street, NW., Washington, DC 20423-0001.³

¹ The Board will grant a stay if an informed decision on environmental issues (whether raised by a party or by the Board's Section of Environmental Analysis (SEA) in its independent investigation) cannot be made before the exemption's effective date. See Exemption of Out-of-Service Rail Lines, 5 I.C.C.2d 377 (1989). Any request for a stay should be filed as soon as possible so that the Board may take appropriate action before the exemption's effective date.

² Each offer of financial assistance must be accompanied by the filing fee, which currently is set at $1,100. See 49 CFR 1002.2(f)(25).

³ On February 2, 2004, the Bucks County Transportation Management Association (Bucks County) filed a letter in opposition to the abandonment of the rail line. Bucks County states that the line represents the only existing rail line between Philadelphia and the Allentown/Bethlehem area and that abandonment of the line would eliminate any possibility of restoring commuter rail service through this area. Bucks County and any other interested person may file petitions for relief within the deadlines established in this notice.

A copy of any petition filed with the Board should be sent to applicants' representative: James R. Paschall, General Attorney, Norfolk Southern Corporation, Three Commercial Place, Norfolk Southern Railway Company, Norfolk, VA 23510.

If the verified notice contains false or misleading information, the exemption is void ab initio.

PRR and NSR have filed an environmental report which addresses the effects, if any, of the abandonment and discontinuance on the environment and historic resources. SEA will issue an environmental assessment (EA) by February 13, 2004. Interested persons may obtain a copy of the EA by writing to SEA (Room 500, Surface Transportation Board, Washington, DC 20423) or by calling SEA, at (202) 565-1539. [Assistance for the hearing impaired is available through the Federal Information Relay Service (FIRS) at 1-800-877-8339.] Comments on environmental and historic preservation matters must be filed within 15 days after the EA becomes available to the public.

Environmental, historic preservation, public use, or trail use/rail banking conditions will be imposed, where appropriate, in a subsequent decision.

Pursuant to the provisions of 49 CFR 1152.29(e)(2), PRR shall file a notice of consummation with the Board to signify that it has exercised the authority granted and fully abandoned the line. If consummation has not been effected by PRR's filing of a notice of consummation by February 10, 2005, and there are no legal or regulatory barriers to consummation, the authority to abandon will automatically expire.

Board decisions and notices are available on our Web site at www.stb.dot.gov.

Decided: February 4, 2004.
By the Board, David M. Konschnik, Director, Office of Proceedings.
Vernon A. Williams,
Secretary.

[FR Doc. 04-2718 Filed 2-9-04; 8:45 am]

BILLING CODE 4915-00-P